ENVIRONMENTAL PROTECTION AGENCY

[RCRA-1997-0019; FRL-7581-7]

Agency Information Collection Activities: Proposed Collection; Comment Request; Exports From and Imports to the United States Under International and Bilateral Waste Agreements, EPA ICR Number 1647.04, OMB Control Number 2050-0143

AGENCY: Environmental Protection Agency (EPA).

ACTION: Notice.

SUMMARY: In compliance with the Paperwork Reduction Act (44 U.S.C. 3501 et seq.), this document announces that EPA is planning to submit a continuing Information Collection Request (ICR) to the Office of Management and Budget (OMB). This is a request to an existing approved collection. This ICR is scheduled to expire on April 30, 2004. Before submitting the ICR to OMB for review and approval, EPA is soliciting comments on specific aspects of the proposed information collection as described below.

DATES: Comments must be submitted on or before December 30, 2003.

ADDRESSES: Submit your comments, referencing docket ID number RCRA-1997-0019, to EPA online using EDOCKET (our preferred method), by e-mail to RCRA-docket@epa.gov, or by mail to: EPA Docket Center, Environmental Protection Agency, OSWER Docket, mail code 5305T, 1200 Pennsylvania Ave., NW., Washington, DC 20460.

FOR FURTHER INFORMATION CONTACT: Jim Kent, Office of Solid Waste, 5304W, U.S. Environmental Protection Agency, 1200 Pennsylvania Ave., NW., Washington, DC 20460; telephone number: 703-308-0461; fax number: 703-308-0514; e-mail address: Kent.Jim@EPAMAIL.EPA.GOV.

SUPPLEMENTARY INFORMATION: EPA has established a public docket for this ICR under Docket ID number RCRA-1997-0019, which is available for public viewing at the OSWER Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the OSWER Docket is (202) 566-0270. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Affected entities: Entities potentially affected by this action are those which export hazardous waste from or import hazardous waste to the U.S.

Title: Exports from and Imports to the United States Under International and Bilateral Waste Agreements, EPA ICR No. 1647.04, expiring on 04/30/04.

Abstract: Authority to promulgate this rule is found in sections 2002(a) and 3017(a)(2) and (f) of the Solid Waste Disposal Act, as amended by the Resource Conservation and Recovery Act, and as amended by the Hazardous and Solid Waste Amendments, 42 U.S.C. 6901 et seq. The Organization for Economic (OECD) Decision C(92)39 is considered legally binding on the United States under Articles 5(a) and 6(2) of the OECD Convention, 12 U.S.T. 1728. In addition, the OECD Decision and EPA's rule implementing the OECD Decision, 40 CFR part 262, subpart H (61 FR 16290-16316, April 12, 1966) impose requirements on U.S. exporters and importers of hazardous waste for recovery to and from OECD member countries. EPA also imposes requirements on U.S. exports and imports of hazardous waste to and from other countries at 40 CFR part 262, subpart E for exports and at subpart F for imports (51 FR 28664, August 8, 1986). The Office of Enforcement and Compliance Assurance, U.S. EPA uses the information provided by each U.S. exporter and U.S. importer to determine compliance with the applicable RCRA regulatory provisions. In addition, the information will be used to determine the number, origin, destination, and type of exports from and imports to the U.S. for tracking purposes and for reporting to the OECD. This information also will be used to assess the efficiency of the program.

An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The annual U.S. exporter burden for this collection is estimated to average 10.23 hours per exporter. The annual U.S. importer burden for this collection is estimated to average 1.3 hours per importer. This amounts to a total annual cost of $441,360 for exporters and $38, 582 for importers. These estimates represent the burden associated with the RCRA export and import requirements. Calculation of these estimates is based on the following numbers:

Exporters: 816.

Importers: 746.

Annual Export Shipments: 25,000.

Annual Import Shipments: 2,984.

The number of export notifications is equal to the number of exporters (816) and the number (and frequency per year) of tracking documents corresponds to the number of annual export and import shipments (25,000 and 2,984, respectively). These estimates take into account all aspects of the information collection, including the time necessary for new entrants to obtain and read the regulations and assess their applicability; time to complete a notification of intent to export; time to complete a tracking document and to transmit copies of the tracking document. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: October 23, 2003.
Robert Springer,
Director, Office of Solid Waste.

[FR Doc. 03-27477 Filed 10-30-03; 8:45 am]

BILLING CODE 6560-50-P